DEPARTMENT OF THE INTERIOR

U.S. Geological Survey

[USGS-GX11LR000F60100]

Agency Information Collection Activities: Comment Request for the Consolidated Consumers' Report (1 Form)

AGENCY: U.S. Geological Survey (USGS), Interior.

ACTION: Notice of an extension of a currently approved information collection (1028-0070).

SUMMARY: To comply with the Paperwork Reduction Act of 1995 (PRA), we are notifying the public that we have submitted to the Office of Management and Budget (OMB) an information collection request (ICR) for the extension of the currently approved paperwork requirements for the USGS Consolidated Consumers' Report. This collection consists of one form. This notice provides the public and other Federal agencies an opportunity to comment on the paperwork burden of this information collection (IC). This IC is scheduled to expire on March 31, 2011.

DATES: To ensure that your comments on this ICR are considered, please submit them on or before March 10, 2011.

ADDRESSES: Please submit written comments on this information collection directly to the Office of Management and Budget (OMB) Office of Information and Regulatory Affairs, Attention: Desk Officer for the Department of the Interior via e-mail to OIRA_DOCKET@omb.eop.gov or fax at 202-395-5806; and identify your submission as 1028-0070. Please also submit a copy of your written comments to Phadrea Ponds, USGS Information Collection Clearance Officer, U.S. Geological Survey, 2150-C Centre Avenue, Fort Collins, CO 80526-8118 (mail); 970-226-9230 (fax); or pondsp@usgs.gov (e-mail). Please reference Information Collection 1028-0070 in the subject line.

FOR FURTHER INFORMATION CONTACT: Carleen Kostick at 703-648-7940 (telephone); ckostick@usgs.gov (e-mail); or by mail at U.S. Geological Survey, 985 National Center, 12201 Sunrise Valley Drive, Reston, VA 20192. To see a copy of the entire ICR submitted to OMB, go to http://www.reginfo.gov (Information Collection Review, Currently Under Review).

SUPPLEMENTARY INFORMATION:

I. Abstract

Respondents to this form supply the USGS with domestic consumption data of 12 metals and ferroalloys, some of which are considered strategic and critical. This information will be published as chapters in Minerals Yearbooks, monthly Mineral Industry Surveys, annual Mineral Commodity Summaries, and special publications, for use by Government agencies, industry, education programs, and the general public.

II. Data

OMB Control Number: 1028-0070.

Form Number: 9-4117-MA.

Title: Consolidated Consumers' Report.

Type of Request: Extension of a currently approved collection.

Affected Public: U.S. nonfuel minerals producers of ferrous and related metals.

Respondent Obligation: Voluntary.

Frequency of Collection: Monthly and Annually.

Estimated Number of Annual Responses: 1,828.

Annual Burden Hours: 1,371 hours. We expect to receive 1,828 annual responses. We estimate an average of 45 minutes per response.

Estimated Reporting and Recordkeeping “Non-Hour Cost” Burden: We have not identified any “non-hour cost” burdens associated with this collection of information.

Public Disclosure Statement: The PRA (44 U.S.C. 3501, et seq.) provides that an agency may not conduct or sponsor a collection of information unless it displays a currently valid OMB control number and current expiration date.

III. Request for Comments

On October 19, 2010, we published a Federal Register notice (75 FR 64349) announcing that we would submit this ICR to OMB for approval and soliciting comments. The comment period closed on December 18, 2010. We did not receive any comments in response to that notice.

We again invite comments concerning this ICR on: (a) Whether the proposed collection of information is necessary for the agency to perform its duties, including whether the information is useful; (b) the accuracy of the agency's estimate of the burden of the proposed collection of information; (c) ways to enhance the quality, usefulness, and clarity of the information to be collected; and (d) ways to minimize the burden on the respondents, including the use of automated collection techniques or other forms of information technology.

Please note that the comments submitted in response to this notice are a matter of public record. Before including your address, phone number, e-mail address, or other personal identifying information in your comment, you should be aware that your entire comment, including your personal identifying information, may be made publicly available at anytime. While you can ask OMB in your comment to withhold your personal identifying information from public review, we cannot guarantee that it will be done.

USGS Information Collection Clearance Officer: Phadrea Ponds 970-226-9445.

Dated: January 28, 2011.
John H. DeYoung, Jr.,
Director, National Minerals Information Center.

[FR Doc. 2011-2651 Filed 2-7-11; 8:45 am]

BILLING CODE 4311-AM-P